DEPARTMENT OF LABOR

Employment and Training Administration

Workforce Innovation and Opportunity Act Native American Employment and Training Council

AGENCY: Employment and Training Administration, Labor.

ACTION: Notice of meeting.

SUMMARY: Pursuant to the Federal Advisory Committee Act (FACA), and the Workforce Innovation and Opportunity Act (WIOA) notice is hereby given of the next meeting of the Native American Employment and Training Council (Council), as constituted under WIOA.

DATES: The meeting will begin at 9:00 a.m., (Eastern Daylight Time) on Tuesday, August 29, 2017, and continue until 5:00 p.m. that day. The meeting will reconvene at 9:00 a.m. on Wednesday, August 30, 2017 and adjourn at 4:00 p.m. that day. The period from 2:00 p.m. to 4:00 p.m. on August 30, 2017 is reserved for participation and comment by members of the public.

ADDRESSES: The meeting will be held at the U.S. Department of Labor, Frances Perkins Building, 200 Constitution Avenue NW., Room N-3437 A & B, Washington, DC 20210.

Security Instructions for the Frances Perkins Building

Meeting participants should use the visitor's entrance to access the Frances Perkins Building, one block north of Constitution Avenue on 3rd and C Streets NW. For security purposes meeting participants must:

1. Present valid photo identification (ID) to receive a visitor badge.

2. Know the name of the event you are attending: The meeting event is the Native American Employment and Training Council meeting.

3. Visitor badges are issued by the security officer at the Visitor Entrance located at 3rd and C Streets NW., as described above.

4. Laptops and other electronic devices may be inspected and logged for identification purposes.

5. Due to limited parking options, metro rail is the easiest way to travel to the Frances Perkins Building. For individuals wishing to take metro rail, the closest stop is Judiciary Square on the Red Line.

FOR FURTHER INFORMATION CONTACT: Athena R. Brown, Designated Federal Officer (DFO), Division of Indian and Native American Programs, Employment and Training Administration, U.S. Department of Labor, Room S-4209, 200 Constitution Avenue NW., Washington, DC 20210. Telephone number (202) 693-3737 (VOICE) (this is not a toll-free number).

SUPPLEMENTARY INFORMATION: The meeting will be open to the public. Members of the public not present may submit a written statement on or before August 22, 2017, to be included in the record of the meeting. Statements are to be submitted to Athena R. Brown, DFO, U.S. Department of Labor, 200 Constitution Avenue NW., Room S-4209, Washington, DC 20210. Persons who need special accommodations should contact Craig Lewis at (202) 693-3384, at least two business days before the meeting. The formal agenda will focus on the following topics: (1) Transition paper; (2) Performance Indicators; (3) 4-Year Competition and Strategic Plan; (4) ETA Updates and follow-up on the Implementation Activities; (5) Training and Technical Assistance; (6) Council and Workgroup Updates and Recommendations; (7) New Business and Next Steps; and (8) Public Comment.

Byron Zuidema,
Deputy Assistant Secretary for Employment and Training.

[FR Doc. 2017-16726 Filed 8-8-17; 8:45 am]

BILLING CODE 4510-FR-P